DEPARTMENT OF TRANSPORTATION

National Highway Traffic Safety Administration

[Docket No. NHTSA-2025-0457]

Agency Information Collection Activities; Submission to the Office of Management and Budget for Review and Approval; Request for Comment; Motorcycle Helmets (Labeling)

AGENCY: National Highway Traffic Safety Administration (NHTSA), Department of Transportation (DOT).

ACTION: Notice and request for comments on the reinstatement of a previously-approved information collection.

SUMMARY: In compliance with the Paperwork Reduction Act of 1995 (PRA), this notice announces that the Information Collection Request (ICR) summarized below will be submitted to the Office of Management and Budget (OMB) for review and approval. The ICR describes the nature of the information collection and its expected burden. This document request for comments on the reinstatement of a previously-approved information collection on Motorcycle Helmets Labeling. A Federal Register Notice with a 60-day comment period soliciting comments on the following information collection was published on June 4, 2025. NHTSA received one comment on the collection.

DATES: Comments must be submitted on or before March 19, 2026.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Mrs. Cristina Echemendia, U.S. Department of Transportation, NHTSA, 1200 New Jersey Avenue SE, West Building Room W43-491, NRM-130, Washington, DC 20590. Mrs. Cristina Echemendia's telephone number is 202-366-1810. Please identify the relevant collection of information by referring to its OMB Control Number.

SUPPLEMENTARY INFORMATION: Under the PRA (44 U.S.C. 3501 et seq.), a Federal agency must receive approval from the Office of Management and Budget (OMB) before it collects certain information from the public, and a person is not required to respond to a collection of information by a Federal agency unless the collection displays a valid OMB control number. In compliance with those requirements, this notice announces that the following information collection request is being submitted to OMB.

Title: “Motorcycle Helmets (Labeling).”

OMB Control Number: 2127-0518.

Form Number: N/A.

Type of Request: Reinstatement of a previously-approved information collection.

Type of Review Requested: Regular.

Length of Approval Requested: Three years from date of approval.

Summary of the Collection of Information

The National Traffic and Motor Vehicle Safety Act authorizes the Secretary of Transportation (NHTSA by delegation), at 49 U.S.C. 30111, to issue Federal Motor Vehicle Safety Standards (FMVSS) that set performance standards for motor vehicles and items of motor vehicle equipment. Vehicle and equipment manufacturers must certify that their vehicles and equipment comply with the safety standards. Moreover, under 49 U.S.C. 30117, the Secretary (NHTSA by delegation) is also authorized to require manufacturers to provide information to first purchasers of motor vehicles or motor vehicle equipment when the vehicle equipment is purchased, in the form of printed matter placed in the vehicle or attached to the motor vehicle or motor vehicle equipment.

Using this authority, NHTSA issued the initial FMVSS No. 218, “Motorcycle helmets,” in 1974. Motorcycle helmets are devices used to protect motorcyclists from head injury in motor vehicle crashes. The standard requires the manufacturer to label every helmet it produces to indicate compliance with the requirements of the Standard. The certification label consists of the symbol “DOT,” the term “FMVSS No. 218,” the word “CERTIFIED,” the precise model designation, and the manufacturer's name and/or brand on the outer shell of the helmet towards the posterior bottom edge. Manufacturers are also required to label every helmet to provide helmet owners with important safety information including manufacturer's name, discrete size, month and year of manufacture, and specific instructions. FMVSS No. 218 S5.6 requires that each helmet shall be labeled permanently and legibly in a manner such that the label(s) can be read easily without removing padding or any other permanent part.

Description of the Need for the Information and Proposed Use of the Information

The labeling requirement in the Standard supports the Department of Transportation's strategic goal in safety, by ensuring that motorcycle helmets are manufactured and certified to the performance requirements of the Standard. NHTSA uses this information for enforcement purposes to ensure that manufacturers certify compliance with the Standard. State and local law enforcement use this information to enforce helmet-use laws, and consumers use the information to make decisions when purchasing motorcycle helmets.

60-Day Notice

A Federal Register notice with a 60-day comment period soliciting public comments on the following information collection was published on June 4, 2025 (90 FR 23762). The closing date for comments was August 4, 2025. The agency received one comment from the National Association of Mutual Insurance Companies (NAMIC). The commenter agreed the collection was necessary but questioned whether providing the information on the advertising and packaging of the helmet would provide the same benefits with less cost to the manufacturers. The commenter also mentioned that it was not clear why the sticker was required. In the 60-day notice the agency explained that NHTSA uses the sticker information to ensure manufacturers certify the helmet compliance with the Standard. NHTSA also explained that State and local law enforcement use this information to enforce helmet-use laws, and consumers use the information to make decisions when purchasing motorcycle helmets.

The reason the label is on the helmet instead of on advertising and product packaging is that those items are disposable. The sticker on the helmet is permanent and a law enforcement officer would need to see whether the helmet is certified to the standard by looking at the sticker. Most likely consumers would not carry the advertising or product packaging that state the helmet is certified to the Standard. Helmet manufacturers can add voluntarily any other advertising or certification statements on the packaging if in fact they certified the product to the Standard.

Affected Public: Motorcycle helmet manufacturers.

Estimated Number of Respondents: 45.

Frequency: On occasion.

Estimated Number of Responses: 3,600,000.

Estimated Total Annual Burden Hours: 10,900 hours.

The 45 respondents (helmet manufacturers) produce a total of 3,600,000 annual responses (3,600,000 motorcycle helmets are manufactured annually). A manufacturer spends approximately 10 seconds per response for labeling. The estimated total annual burden hours for helmet manufacturers to label motorcycle helmets as required in FMVSS No. 218 is 10,900 burden hours (3,600,000 × 10 seconds, rounded).

Estimated Total Annual Burden Cost: $1,512,000.

NHTSA estimates that the printing and material cost per helmet is $0.42. Therefore, the estimated total annual burden cost is $1,512,000 (3,600,000 helmets produced per year × $0.42). The total estimated annual burden costs are detailed in the table below:

Number of respondents (helmet manufacturers) | Number of helmets produced annually per respondent | Printing and material cost per helmet | Annual printing and material cost per manufacturer | Total number of helmets produced annually | Estimated total annual printing and material costs
45 | 80,000 (Rounded) | $0.42 | $33,600 (Rounded) | 3,600,000 | $1,512,000

Public Comments Invited: You are asked to comment on any aspects of this information collection, including: (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of automated, electronic, mechanical, or other technological collection techniques or other forms of information technology, e.g., permitting electronic submission of responses.

Authority: The Paperwork Reduction Act of 1995; 44 U.S.C. Chapter 35, as amended; 49 CFR 1.49; and DOT Order 1351.29A.

Jane Doherty,
Acting Associate Administrator for Rulemaking.

[FR Doc. 2026-02992 Filed 2-13-26; 8:45 am]

BILLING CODE 4910-59-P